DEPARTMENT OF THE INTERIOR

National Park Service

[4400-SZM]

Gettysburg National Military Park Advisory Commission

AGENCY: National Park Service, Interior.

ACTION: Notice of meetings.

SUMMARY: This notice sets forth the dates of April 19, 2012 and September 6, 2012 of the Gettysburg National Military Park Advisory Commission.

DATES: The public meetings will be held on April 19, 2012 and September 6, 2012 from 7 p.m. to 9 p.m.

Location: The meetings will be held at the Ford Education Center in the Gettysburg National Military Park Museum and Visitor Center, 1195 Baltimore Pike, Gettysburg, Pennsylvania 17325.

Agenda: The April 19, 2012 and September 6, 2012 meetings will consist of the Election of the Chair and Vice-Chair, Operational Updates on Park Activities which will consist of Historic Landscape Rehabilitation, Park Projects, FY12 Appropriations and the Citizens Open Forum where the public can make comments and ask questions on any park activity.

FOR FURTHER INFORMATION CONTACT: Bob Kirby, Superintendent, Gettysburg National Military Park, 1195 Baltimore Pike, Suite 100, Gettysburg, Pennsylvania 17325.

SUPPLEMENTARY INFORMATION: The meeting will be open to the public. Any member of the public may file with the Commission a written statement concerning agenda items. The statement should be addressed to the Gettysburg National Military Park Advisory Commission, 1195 Baltimore Pike, Suite 100, Gettysburg, Pennsylvania 17325.

Dated: November 1, 2011.
Bob Kirby,
Superintendent, Gettysburg NMP/Eisenhower NHS.

[FR Doc. 2011-29205 Filed 11-10-11; 8:45 am]

BILLING CODE P